DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than January 4, 2021.

Interested persons are invited to submit written comments regarding the subject matter of the investigations to the Administrator, Office of Trade Adjustment Assistance, at the address shown below, not later than January 4, 2021.

The petitions filed in this case are available for inspection at the Office of the Administrator, Office of Trade Adjustment Assistance, Employment and Training Administration, U.S. Department of Labor, Room N-5428, 200 Constitution Avenue NW, Washington, DC 20210.

Signed at Washington, DC, this 9th day of December 2020.
Hope D. Kinglock,
Certifying Officer, Office of Trade Adjustment Assistance.

Appendix

48 TAA Petitions Instituted Between 11/1/20 and 11/30/20
TA-W | Subject firm (petitioners) | Location | Date of institution | Date of petition
96572 | Metro Decor LLC (Workers) | Warren, OH | 11/05/20 | 10/23/20
96576 | IAC Group (Company Official) | Greencastle, IN | 11/06/20 | 10/27/20
96583 | Dentsply Sirona ( ) | York, PA | 11/02/20 | 11/02/20
96584 | Hunter Douglas (State Workforce Offi) | Cumberland, MD | 11/02/20 | 10/30/20
96585 | Lear Corporation (State Workforce Offi) | Rochester Hills, MI | 11/02/20 | 10/30/20
96586 | Emerson Electric Company ( ) | Charlottesville, VA | 11/02/20 | 10/30/20
96587 | Shoal Creek Mine (Union Official) | Oakman, AL | 11/02/20 | 10/30/20
96588 | Plastic Ingenuity, Inc. (State Workforce Offi) | Maumelle, AR | 11/03/20 | 11/02/20
96589 | Pall Filter Specialists, Inc. (State Workforce Offi) | Grand Island, NE | 11/03/20 | 11/02/20
96590 | Allegro MicroSystems (Company Official) | Marlborough, MA | 11/03/20 | 11/02/20
96591 | ABB Inc. (American Job Center) | Morristown, TN | 11/05/20 | 11/04/20
96592 | The Hall China Company (State Workforce Offi) | East Liverpool, OH | 11/06/20 | 11/05/20
96593 | Sodecia (Company Official) | Lake Orion, MI | 11/06/20 | 11/05/20
96594 | Pactiv LLC (State Workforce Offi) | Franklin Park, IL | 11/09/20 | 11/06/20
96595 | Pactiv LLC (State Workforce Offi) | Bridgeview, IL | 11/09/20 | 11/06/20
96596 | Mercury Plastics, Inc. (State Workforce Offi) | Chicago, IL | 11/09/20 | 11/06/20
96597 | Pactiv LLC (State Workforce Offi) | Bedford Park, IL | 11/09/20 | 11/06/20
96598 | Mercury Plastics, Inc. (State Workforce Offi) | Franklin Park, IL | 11/09/20 | 11/06/20
96599 | Klockner Pentaplast of America Inc. (State Workforce Offi) | Beaver, WV | 11/09/20 | 11/04/20
96600 | Kinyo Virginia/DYC (State Workforce Offi) | Virginia Beach, VA | 11/09/20 | 11/06/20
96601 | Ex-Tech Plastics, Inc. (State Workforce Offi) | Richmond, IL | 11/09/20 | 11/06/20
96602 | Solo Cup Operating Corporation (State Workforce Offi) | Urbana, IL | 11/09/20 | 11/06/20
96603 | D & W Fine Pack, LLC (State Workforce Offi) | Elk Grove Village, IL | 11/09/20 | 11/06/20
96604 | Solo Cup Operating Corporation (State Workforce Offi) | Chicago, IL | 11/09/20 | 11/06/20
96606 | Broadwind Heavy Fabrications (State Workforce Offi) | Abilene, TX | 11/10/20 | 11/09/20
96607 | Pactiv Packaging Inc (State Workforce Offi) | Mineral Wells, WV | 11/10/20 | 11/04/20
96608 | Methode Electronics (Company Official) | Carthage, IL | 11/12/20 | 11/10/20
96609 | Wabel Tool Company (State Workforce Offi) | Decatur, IL | 11/12/20 | 11/10/20
96610 | Kennametal Inc. (American Job Center) | Johnson City, TN | 11/12/20 | 11/10/20
96611 | Damascus Steel, LLC (Company Official) | New Brighton, PA | 11/13/20 | 11/12/20
96612 | Howmet (Union Official) | Niles, OH | 11/16/20 | 11/13/20
96613 | Tenet/Baptist Health Systems (State Workforce Offi) | San Antonio, TX | 11/17/20 | 11/16/20
96614 | Vishay Dale Electronics, LLC (State Workforce Offi) | Yankton, SD | 11/17/20 | 11/16/20
96615 | Alpha Surgical, Inc. (State Workforce Offi) | North Providence, RI | 11/17/20 | 11/16/20
96616 | Vanguard Home Medical Equipment (State Workforce Offi) | Warwick, RI | 11/17/20 | 11/16/20
96617 | HKR USA Hikari (State Workforce Offi) | Orangeburg, SC | 11/18/20 | 11/17/20
96618 | BCS Access Systems US LLC (Company Official) | Auburn, NY | 11/18/20 | 11/17/20
96619 | Mondi Akrosil LLC. (Company Official) | Pleasant Prairie, WI | 11/19/20 | 11/18/20
96620 | McKesson Medical (State Workforce Offi) | Irving, TX | 11/20/20 | 11/19/20
96621 | Eaton Corporation (Union Official) | Auburn, IN | 11/23/20 | 11/19/20
96622 | Paul Hughes (Company Official) | Council Bluffs, IA | 11/23/20 | 11/22/20
96623 | BuzziSpace Inc. (State Workforce Offi) | High Point, NC | 11/23/20 | 11/20/20
96624 | Paulsboro Refining Company, LLC (State Workforce Offi) | Paulsboro, NJ | 11/24/20 | 11/23/20
96625 | Bettering Builders (Company Official) | Soddy Daisy, TN | 11/24/20 | 11/23/20
96626 | Bard Davol (State Workforce Offi) | Warwick, RI | 11/24/20 | 11/23/20
96627 | Follett Corporation (State Workforce Offi) | Westchester, IL | 11/24/20 | 11/20/20
96628 | Acuity Brands Lighting INC (State Workforce Offi) | Fishers, IN | 11/27/20 | 11/25/20
96629 | Buhler Versatile USA, Inc. (State Workforce Offi) | Willmar, MN | 11/27/20 | 11/25/20

[FR Doc. 2020-28208 Filed 12-21-20; 8:45 am]

BILLING CODE P